OFFICE OF MANAGEMENT AND BUDGET

Designation of Databases for Treasury's Working System Under the Do Not Pay Initiative

AGENCY: Office of Management and Budget.

ACTION: Notice of designation.

SUMMARY: Section 5(b)(1)(B) of the Improper Payments Elimination and Recovery Improvement Act of 2012 (IPERIA) provides that the Director of the Office of Management and Budget (OMB), in consultation with agencies, may designate additional databases for inclusion under the Do Not Pay (DNP) Initiative. IPERIA further requires OMB to provide public notice and an opportunity for comment prior to designating additional databases. In fulfillment of this requirement, on September 13, 2017, OMB published a Notice of Proposed Designation (82 FR 43041) for six additional databases. OMB did not receive any comments during the 30-day comment period for this notice. Effective immediately OMB designates the following six databases: (1) The Department of the Treasury's (Treasury) Office of Foreign Assets Control's Specially Designated Nationals List (OFAC List), (2) data from the General Services Administration's (GSA) System for Award Management (SAM) sensitive financial data from entity registration records (including those records formerly housed in the legacy Excluded Parties List System), (3) the Internal Revenue Service's (IRS) Automatic Revocation of Exemption List (ARL), (4) the IRS's Exempt Organizations Select Check (EO Select Check), (5) the IRS's e-Postcard database, and (6) the commercial database American InfoSource (AIS) Deceased Data for inclusion in the Do Not Pay Initiative.

FOR FURTHER INFORMATION CONTACT: Brian Nichols at the OMB Office of Federal Financial Management at 202-395-3993.

Mark Reger,
Deputy Controller.

[FR Doc. 2017-25416 Filed 11-22-17; 8:45 am]

BILLING CODE 3110-01-P